DEPARTMENT OF HOMELAND SECURITY

Transportation Security Administration

49 CFR Parts 1520 and 1554

[Docket No. TSA-2004-17131]

RIN 1652-AA38

Aircraft Repair Station Security

AGENCY: Transportation Security Administration (TSA), DHS.

ACTION: Proposed rule; extension of comment period.

SUMMARY: The Transportation Security Administration (TSA) is extending the comment period on the notice of proposed rulemaking (NPRM) regarding the Aircraft Repair Station Security Program published on November 18, 2009. TSA has decided to grant, in part, two requests for an extension of the comment period and will extend the comment period for thirty (30) days. The comment period will now end on February 19, 2010, instead of January 19, 2010.

DATES: The comment period for the proposed rule at 74 FR 59874, November 18, 2009, is extended until February 19, 2010.

ADDRESSES: You may submit comments, identified by the TSA docket number to this rulemaking, to the Federal Docket Management System (FDMS), a government-wide, electronic docket management system, using any one of the following methods:

Electronically: You may submit comments through the Federal eRulemaking portal at http://www.regulations.gov. Follow the online instructions for submitting comments.

Mail, In Person, or Fax: Address, hand-deliver, or fax your written comments to the Docket Management Facility, U.S. Department of Transportation, 1200 New Jersey Avenue, SE., West Building Ground Floor, Room W12-140, Washington, DC 20590-0001; fax (202) 493-2251. The Department of Transportation (DOT), which maintains and processes TSA's official regulatory dockets, will scan the submission and post it to FDMS.

See SUPPLEMENTARY INFORMATION for format and other information about comment submissions.

FOR FURTHER INFORMATION CONTACT: Celio Young, Office of Security Operations, TSA-29, Transportation Security Administration, 601 South 12th Street, Arlington, VA 20598-6029; telephone (571) 227-3580; facsimile (571) 227-1905; e-mail celio.young@dhs.gov.

SUPPLEMENTARY INFORMATION:

Comments Invited

TSA invites interested persons to participate in this action by submitting written comments, data, or views. We also invite comments relating to the economic, environmental, energy, or federalism impacts that might result from this action. See ADDRESSES above for information on where to submit comments.

With each comment, please identify the docket number at the beginning of your comments. TSA encourages commenters to provide their names and addresses. The most helpful comments reference a specific portion of the document, explain the reason for any recommended change, and include supporting data. You may submit comments and material electronically, in person, by mail, or by fax as provided under ADDRESSES, but please submit your comments and material by only one means. If you submit comments by mail or delivery, submit them in an unbound format, no larger than 8.5 by 11 inches, suitable for copying and electronic filing.

If you would like TSA to acknowledge receipt of comments submitted by mail, include with your comments a self-addressed, stamped postcard on which the docket number appears. We will stamp the date on the postcard and mail it to you.

TSA will file all comments to our docket address, as well as items sent to the address or e-mail under FOR FURTHER INFORMATION CONTACT, in the public docket, except for comments containing confidential information and sensitive security information (SSI) ¹. Should you wish your personally identifiable information be redacted prior to filing in the docket, please so state. TSA will consider all comments that are in the docket on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the action. Comments containing this type of information should be appropriately marked as containing such information and submitted by mail to the address listed in FOR FURTHER INFORMATION CONTACT section.

TSA will not place comments containing SSI in the public docket and will handle them in accordance with applicable safeguards and restrictions on access. TSA will hold documents containing SSI, confidential business information, or trade secrets in a separate file to which the public does not have access, and place a note in the public docket explaining that commenter's have submitted such documents. TSA may include a redacted version of the comment in the public docket. If an individual requests to examine or copy information that is not in the public docket, TSA will treat it as any other request under the Freedom of Information Act (FOIA) (5 U.S.C. 552) and the Department of Homeland Security's (DHS') FOIA regulation found in 6 CFR part 5.

Reviewing Comments in the Docket

Please be aware that anyone is able to search the electronic form of all comments in any of our dockets by the name of the individual who submitted the comment (or signed the comment, if an association, business, labor union, etc., submitted the comment). You may review the applicable Privacy Act Statement published in the Federal Register on April 11, 2000 (65 FR 19477) and modified on January 17, 2008 (73 FR 3316).

You may review TSA's electronic public docket on the Internet at http://www.regulations.gov. In addition, DOT's Docket Management Facility provides a physical facility, staff, equipment, and assistance to the public. To obtain assistance or to review comments in TSA's public docket, you may visit this facility between 9 a.m. to 5 p.m., Monday through Friday, excluding legal holidays, or call (202) 366-9826. This docket operations facility is located in the West Building Ground Floor, Room W12-140 at 1200 New Jersey Avenue, SE., Washington, DC 20590.

Availability of the Notice of Proposed Rulemaking and Comments Received

You can get an electronic copy using the Internet by—

(1) Searching the electronic Federal Docket Management System (FDMS) Web page at http://www.regulations.gov;

(2) Accessing the Government Printing Office's Web page at http://www.gpoaccess.gov/fr/index.html; or

(3) Visiting TSA's Security Regulations Web page at http://www.tsa.gov and accessing the link for “Research Center” at the top of the page.

In addition, copies are available by writing or calling the individual in the FOR FURTHER INFORMATION CONTACT section. Make sure to identify the docket number of this rulemaking.

Comment Period Extension

On November 18, 2009 (74 FR 59874), TSA published an NPRM on the Aircraft Repair Station Security Program. The NPRM has a 60-day comment period that would have ended on January 19, 2010. In two separate requests, one dated November 20, 2009, from the Professional Aviation Maintenance Association (PAMA) and the other dated November 23, 2009, from the International Air Transport Association (IATA), both organizations requested that the deadline for filing comments on the Aircraft Repair Station Security NPRM be extended for an additional 60 days from January 19, 2010, to March 19, 2010. See Docket Item Nos. TSA-2004-17131-0034 (PAMA); TSA-2004-17131-0043 and TSA-2004-17131-0066 (IATA). PAMA and IATA believe that the original 60-day comment period is insufficient time to provide TSA with substantive comments. PAMA requests additional time for its membership to read and respond to the NPRM due to the holiday season being the airlines busiest time of the year. IATA believes that due to the complexity and scope of the rule, there is insufficient time for careful consideration by stakeholders. IATA also believes that further time is required for translation and review of the NPRM by foreign repair station operators abroad.

TSA has decided to grant, in part, PAMA and IATA's requests for an extension and will extend the comment period for thirty (30) days. TSA believes that public awareness of the proposed Aircraft Repair Station Security rulemaking, which began in February 2004 with a public meeting and comment period, has allowed sufficient time for industry consideration. The comment period will now be a total of 90 days and will end on February 19, 2010. This extension will allow the aviation industry and other interested entities and individuals additional time to complete their comments on the NPRM and will enable TSA to continue its efforts to implement final regulations as mandated by 49 U.S.C. 44924.

Issued in Arlington, Virginia, on December 22, 2009.
Gale D. Rossides,
Acting Administrator.

[FR Doc. E9-30721 Filed 12-28-09; 8:45 am]

BILLING CODE 9110-05-P